DEPARTMENT OF DEFENSE

Office of the Inspector General; Privacy Act of 1974; System of Records

[DOD-2006-OS-0171]

AGENCY: Office of the Inspector General, DoD.

ACTION: Notice To Add Systems of Records.

SUMMARY: The Office of the Inspector General (OIG) proposes to add a system of records to its inventory of record systems subject to the Privacy Act of 1974 (5 U.S.C. 552a), as amended.

DATES: The proposed action will be effective on September 6, 2006, unless comments are received that would result in a contrary determination.

ADDRESSES: Send comments to Chief, FOIA/PA Office, Inspector General, Department of Defense, 400 Army Navy Drive, Room 201, Arlington, VA 22202-4704.

FOR FURTHER INFORMATION CONTACT: Mr. Darryl R. Aaron at (703) 604-9785.

SUPPLEMENTARY INFORMATION: The Office of the Inspector General (OIG) systems of records notices subject to the Privacy Act of 1974, (5 U.S.C. 552a), as amended, have been published in the Federal Register and are available from the address above.

The proposed systems reports, as required by 5 U.S.C. 552a(r) of the Privacy Act, were submitted on (date), to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: August 1, 2006.
C.R. Choate,
Alternate OSD Federal Register Liaison Officer, Department of Defense.

CIG-23

System name:

Public Affairs Files.

System location:

Assistant Inspector General for Office of Communications and Congressional Liaison, Office of the Inspector General of the Department of Defense, 400 Army Navy Drive, Arlington, VA 22202-4704.

Categories of individuals covered by the system:

Any individual(s) who writes or contacts the OIG DoD requesting general information.

Categories of records in the system:

Records created or compiled in response to an inquiry, to include the response to the inquiry. Records may include, but are not limited to, news media reports and articles pertaining to the OIG DoD military and civilian officials to include Presidential Appointees; news media reports and articles pertaining to OIG DoD components, commands and/or systems; Congressional testimony and/or hearing transcripts; DoD military and civilian personnel speeches; Presidential and Congressional speeches pertaining to OIG DoD interests.

Authority for maintenance of the system:

The Inspector General Act of 1978 (Public Law 95-452), as amended; DoD Directive 5106.1 (32 CFR part 312), Inspector General of the Department of Defense; DoD Directive 5122.5, Assistant Secretary of Defense for Public Affairs; DoD Directive 5230.9, Clearance of DoD Information for Public Release; and OIG Memorandum, Subject: Public Release of Information from the Office of the Inspector General, Department of Defense, June 27, 2003.

Purpose(s):

To collect information in order to respond to inquiries about OIG DoD activities and functions.

Routine uses of records maintained in the system, including categories of users and the purposes of such uses:

In addition to those disclosures generally permitted under 5 U.S.C. 552a of the Privacy Act, these records or information contained therein may specifically be disclosed outside the DoD as a routine use pursuant to 5 U.S.C. 552a(b)(3) as follows:

The DoD Blanket Routine Uses set forth at the beginning of the OIG compilation of system of records notices also apply to this system.

Policies and practices for storing, retrieving, accessing, retaining, and disposing of records in the system:

Storage:

Paper and electronic records are stored in file folders, computerized index listings and electronic storage media on local area network.

Retrievability:

Retrieved by name.

Safeguards

Paper records are stored in file cabinets located in an office suite, accessible only to OIG DoD personnel who must use the records to perform their duties. Computer systems in which records reside are protected through the use of assigned user identification(s) and multiple levels of passwords restricting access. Records are secured in a guarded building.

Retention and disposal:

Disposition pending. No records will be destroyed until authorization is granted from the National Archives and Records Administration. All records will be retained until approval is granted.

System manager(s) and address:

Assistant Inspector General for Office of Communications and Congressional Liaison, Office of the Inspector General of the Department of Defense, 400 Army Navy Drive, Arlington, VA 22202-4704.

Notification procedure:

Individuals seeking to determine whether information about themselves is contained in this system should address written request to the Freedom of Information Act Requester Service Center/Privacy Act Office, 400 Army Navy Drive, Arlington, VA 22202-4704.

Written request should contain the individual's full name, all former names and alias of the requester under which the file may be maintained. The request must be signed.

Record access procedures:

Individuals seeking access to records about themselves contained in this system of records should address written requests to the Freedom of Information Act Requester Service Center/Privacy Act Office, 400 Army Navy Drive, Arlington, VA 222-4704.

Written request should contain the individual's full name, all former names and alias of the requester under which the file may be maintained. The request must be signed.

Contesting record procedures:

The OIG's rules for accessing records, and for contesting contents and appealing initial agency determinations are contained in DoD Directive 5106.1 (32 CFR part 312) or may be obtained from the System Manager.

Record source categories:

Information obtained from the Department of Defense Military Services and Components, U.S. Congress, DoD OIG Hotline, public media, and source documents such as reports of investigation and/or audit.

Exemptions claimed for the system:

During the course of processing a Public Affairs request, exempt materials from other systems of records may become part of the records in this system. To the extent that copies of exempt records from those other systems of records are entered into this Public Affairs case record, the Office of the Inspector General, DoD, hereby claims the same exemptions for the records from those other systems that are entered into this system, as claimed for the original primary systems of records which they are a part.

An exemption rule for this system has been promulgated in accordance with requirements of 5 U.S.C. 553(b)(1), (2), and (3), (c) and (e) and published in 32 CFR part 312. For additional information contact the system manager.

[FR Doc. 06-6720 Filed 8-4-06; 8:45 am]

BILLING CODE 5001-06-M